DEPARTMENT OF HEALTH AND HUMAN SERVICES

Food and Drug Administration

[Docket No. 02D-0032]

Guidance for Industry; Implementation of Section 755 of the Agriculture, Rural Development, Food and Drug Administration, and Related Agencies Appropriations Act of 2002, Pub. L. No. 107-76 § 755(2001) Regarding Common or Usual Names for Catfish; Availability

Correction

In notice document 02-2753 beginning on page 5604, in the issue of Wednesday, February 6, 2002 make the following correction:

On page 5605, in the first column, in the first line, the web address, “http://www.cfsan.fda.gov/dms/guidance/html” should read “http://www.cfsan.fda.gov/~dms/guidance/html”.

[FR Doc. C2-2753 Filed 3-18-02; 8:45 am]

BILLING CODE 1505-01-D